DEPARTMENT OF COMMERCE

International Trade Administration

[A-533-891; A-580-904; C-533-892]

Forged Steel Fittings From India and the Republic of Korea: Notice of Correction to the Antidumping Duty and Countervailing Duty Orders

AGENCY: Enforcement and Compliance, International Trade Administration, Department of Commerce.

SUMMARY: The U.S. Department of Commerce (Commerce) is issuing a correction to the previously published Federal Register notices pertaining to the antidumping duty orders on forged steel fittings from India and the Republic of Korea (Korea) and the countervailing duty order on forged steel fittings from India.

DATES: Applicable: Applicable December 11, 2020.

FOR FURTHER INFORMATION CONTACT: Lauren Caserta, AD/CVD Operations, Office VII, Enforcement and Compliance, International Trade Administration, U.S. Department of Commerce, 1401 Constitution Avenue NW, Washington, DC 20230; telephone: (202) 482-4737.

SUPPLEMENTARY INFORMATION:

Correction

On December 11, 2020, Commerce published the antidumping duty orders on forged steel fittings from India and Korea and the countervailing duty order on forged steel fittings from India.¹ Due to a typographical error, the scope of the Orders included a misspelling.² Specifically, in the Appendix to the published Orders, the second sentence of paragraph three reads: “Forged steel fittings are not manufactured from casings.” The sentence should have read: “Forged steel fittings are not manufactured from castings.” (emphasis added).³

¹ See Forged Steel Fittings from India and the Republic of Korea: Antidumping Duty Orders, 85 FR 80014 (December 11, 2020); see also Forged Steel Fittings from India: Countervailing Duty Order, 85 FR 80016 (December 11, 2020) (collectively, the Orders).

² The misspelling was also included in the initiation notices, preliminary determinations, amended countervailing duty preliminary determination, and final determinations. See Forged Steel Fittings from India and the Republic of Korea: Initiation of Less-Than-Fair-Value Investigations, 84 FR 64265 (November 21, 2019); see also Forged Steel Fittings from India: Initiation of Countervailing Duty Investigation, 84 FR 64270 (November 21, 2019); Forged Steel Fittings from India: Preliminary Affirmative Countervailing Duty Determination, and Alignment of Final Determination with Final Antidumping Duty Determination, 85 FR 17536 (March 30, 2020); Forged Steel Fittings from India: Amended Preliminary Affirmative Countervailing Duty Determination, 85 FR 36835 (June 18, 2020); Forged Steel Fittings from India: Preliminary Affirmative Determination of Sales at Less-Than-Fair Value, Postponement of Final Determination, and Extension of Provisional Measures, 85 FR 32007 (May 28, 2020); Forged Steel Fittings from the Republic of Korea: Preliminary Affirmative Determination of Sales at Less-Than-Fair Value, Postponement of Final Determination, and Extension of Provisional Measures, 85 FR 32010 (May 28, 2020); Forged Steel Fittings from India: Final Affirmative Determination of Sales at Less Than Fair Value, 85 FR 66306 (October 19, 2020); Forged Steel Fittings from the Republic of Korea: Final Affirmative Determination of Sales at Less Than Fair Value, 85 FR 66302 (October 19, 2020); and Forged Steel Fittings from India: Final Affirmative Countervailing Duty Determination, 85 FR 66535 (October 20, 2020).

³ We note that the scope of the Orders lists “Casing conductor connectors made to proprietary specifications” in the list of excluded products, and confirm that this spelling is intended and correct (i.e., not a typographical error).

We are hereby correcting the Orders to include the correct scope as described above and included in the Appendix to this notice.

This notice serves as a correction to the Orders and is published in accordance with section 706(a) and 736(a)of the Tariff Act of 1930, as amended.

Dated: December 11, 2020.
Jeffrey I. Kessler,
Assistant Secretary for Enforcement and Compliance.

Appendix

Scope of the Orders

The merchandise covered by these orders is carbon and alloy forged steel fittings, whether unfinished (commonly known as blanks or rough forgings) or finished. Such fittings are made in a variety of shapes including, but not limited to, elbows, tees, crosses, laterals, couplings, reducers, caps, plugs, bushings, unions (including hammer unions), and outlets. Forged steel fittings are covered regardless of end finish, whether threaded, socket-weld or other end connections. The scope includes integrally reinforced forged branch outlet fittings, regardless of whether they have one or more ends that is a socket welding, threaded, butt welding end, or other end connections.

While these fittings are generally manufactured to specifications ASME B16.11, MSS SP-79, MSS SP-83, MSS-SP-97, ASTM A105, ASTM A350 and ASTM A182, the scope is not limited to fittings made to these specifications.

The term forged is an industry term used to describe a class of products included in applicable standards, and it does not reference an exclusive manufacturing process. Forged steel fittings are not manufactured from castings. Pursuant to the applicable standards, fittings may also be machined from bar stock or machined from seamless pipe and tube.

All types of forged steel fittings are included in the scope regardless of nominal pipe size (which may or may not be expressed in inches of nominal pipe size), pressure class rating (expressed in pounds of pressure, e.g., 2,000 or 2M; 3,000 or 3M; 6,000 or 6M; 9,000 or 9M), wall thickness, and whether or not heat treated.

Excluded from this scope are all fittings entirely made of stainless steel. Also excluded are flanges, nipples, and all fittings that have a maximum pressure rating of 300 pounds per square inch/PSI or less.

Also excluded from the scope are fittings certified or made to the following standards, so long as the fittings are not also manufactured to the specifications of ASME B16.11, MSS SP-79, MSS SP-83, MSS SP-97, ASTM A105, ASTM A350 and ASTM A182:

• American Petroleum Institute (API) 5CT, API 5L, or API 11B;

• American Society of Mechanical Engineers (ASME) B16.9;

• Manufacturers Standardization Society (MSS) SP-75;

• Society of Automotive Engineering (SAE) J476, SAE J514, SAE J516, SAE J517, SAE J518, SAE J1026, SAE J1231, SAE J1453, SAE J1926, J2044 or SAE AS 35411;

• Hydraulic hose fittings (e.g., fittings used in high pressure water cleaning applications, in the manufacture of hydraulic engines, to connect rubber dispensing hoses to a dispensing nozzle or grease fitting) made to ISO 12151-1, 12151-2, 12151-3, 12151-4, 12151-5, or 12151-6;

• Underwriter's Laboratories (UL) certified electrical conduit fittings;

• ASTM A153, A536, A576, or A865;

• Casing conductor connectors made to proprietary specifications;

• Machined steel parts (e.g., couplers) that are not certified to any specifications in this scope description and that are not for connecting steel pipes for distributing gas and liquids;

• Oil country tubular goods (OCTG) connectors (e.g., forged steel tubular connectors for API 5L pipes or OCTG for offshore oil and gas drilling and extraction);

• Military Specification (MIL) MIL-C-4109F and MIL-F-3541; and

• International Organization for Standardization (ISO) ISO6150-B.

Also excluded from the scope are assembled or unassembled hammer unions that consist of a nut and two subs. To qualify for this exclusion, the hammer union must meet each of the following criteria: (1) The face of the nut of the hammer union is permanently marked with one of the following markings: “FIG 100,” “FIG 110,” “FIG 100C,” “FIG 200,” “FIG 200C,” “FIG 201,” “FIG 202,” “FIG 206,” “FIG 207,” “FIG 211,” “FIG 300,” “FIG 301,” “FIG 400,” “FIG 600,” “FIG 602,” “FIG 607,” “FIG 1002,” “FIG 1003,” “FIG 1502,” “FIG 1505,” “FIG 2002,” or “FIG 2202”; (2) the hammer union does not bear any of the following markings: “Class 3000,” “Class 3M,” “Class 6000,” “Class 6M,” “Class 9000,” or “Class 9M”; and (3) the nut and both subs of the hammer union are painted.

Also excluded from the scope are subs or wingnuts made to ASTM A788, marked with “FIG 1002,” “FIG 1502,” or “FIG 2002,” and with a pressure rating of 10,000 PSI or greater. These parts are made from AISI/SAE 4130, 4140, or 4340 steel and are 100 percent magnetic particle inspected before shipment.

Also excluded from the scope are tee, elbow, cross, adapter (or “crossover”), blast joint (or “spacer”), blind sub, swivel joint and pup joint which have wing nut or not. To qualify for this exclusion, these products must meet each of the following criteria: (1) Manufacturing and Inspection standard is API 6A or API 16C; and, (2) body or wing nut is permanently marked with one of the following markings: “FIG 2002,” “FIG 1502,” “FIG 1002,” “FIG 602,” “FIG 206,” or “FIG any other number” or MTR (Material Test Report) shows these FIG numbers.

To be excluded from the scope, products must have the appropriate standard or pressure markings and/or be accompanied by documentation showing product compliance to the applicable standard or pressure, e.g., “API 5CT” mark and/or a mill certification report.

Subject carbon and alloy forged steel fittings are normally entered under Harmonized Tariff Schedule of the United States (HTSUS) 7307.92.3010, 7307.92.3030, 7307.92.9000, 7307.99.1000, 7307.99.3000, 7307.99.5045, and 7307.99.5060. They may also be entered under HTSUS 7307.93.3010, 7307.93.3040, 7307.93.6000, 7307.93.9010, 7307.93.9040, 7307.93.9060, and 7326.19.0010.

The HTSUS subheadings and specifications are provided for convenience and customs purposes; the written description of the scope is dispositive.

[FR Doc. 2020-27783 Filed 12-16-20; 8:45 am]

BILLING CODE 3510-DS-P